DEPARTMENT OF HEALTH AND HUMAN SERVICES

Centers for Disease Control and Prevention

[30Day-11-0672]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Indicators of the Performance of Local, State, Territorial, and Tribal Education Agencies in HIV Prevention, Coordinated School Health Program, and Asthma Management Activities for Adolescent and School Health Programs (OMB No. 0920-0672, exp. 6/30/2011)—Revision—National Center for Chronic Disease Prevention and Health Promotion (NCCDPHP), Centers for Disease Control and Prevention (CDC).

Background and Brief Description

CDC is requesting OMB approval for three years to continue annual information collection for the Indicators for School Health programs. The Indicators assess programmatic activities among local education agencies (LEA) and State, territorial, and Tribal government education agencies (SEAs, TEAs, and TGs) funded by the Division of Adolescent and School Health (DASH), Centers for Disease Control and Prevention. Currently, the Indicators for School Health Programs are the only standardized annual reporting process for HIV prevention activities or coordinated school health program (CSHP) activities among LEAs and SEAs/TEAs/TGs funded by DASH. The questionnaires correspond to the specific funding source from the Division of Adolescent and School Health: two questionnaires pertain to HIV-prevention program activities among LEAs and SEAs/TEAs/TGs; one pertains to CSHP/PANT activities among SEAs/TGs; and one pertains to asthma management activities among LEAs. All information is collected electronically on a Web site managed by DASH.

Two HIV prevention questionnaires include questions on project planning, materials distribution, professional development activities, provision of technical assistance, collaboration with external partners, and reducing health disparities among populations at disproportionate risk. The CSHP/PANT questionnaire focuses on the activities above as well as on physical activity, healthy eating, and tobacco-use prevention activities. The asthma management questionnaire includes questions on project planning, materials distribution, professional development activities, provision of technical assistance, collaboration with external partners, reducing health disparities among populations at disproportionate risk, and health services.

The information collected by CDC is used to: (1) Provide standardized information about how LEAs and SEAs/TEAs/TGs use funds for programs in HIV prevention, asthma management, and coordinated school health/physical activity, nutrition, and tobacco-use prevention (CSHP/PANT); (2) assess the extent to which programmatic adjustments are indicated; (3) provide descriptive and process information about program activities; and (4) provide greater accountability for use of public funds.

The questionnaires previously approved for collecting FY2009 data will be used to collect FY2010 data. Minor changes to the questionnaires will be implemented for the FY2011 and FY2012 data collections, however, the proposed changes will not alter the estimated burden per response. An increase in the average number of funded programs over the three years of this clearance will result in a net increase in burden hours. A minor change to the title of the clearance is being requested to more accurately reflect the participation of Territorial and Tribal Education Agencies.

There are no costs to respondents other than their time. The total estimated annualized burden hours are 811.

Estimated Annualized Burden Hours
Type of respondents | Form name | No. of respondents | No. of responses per respondent | Avg. burden per response (in hrs)
Local Education Agency Officials | Indicators for School Health Programs: HIV Prevention (LEA) | 16 | 1 | 7
| Indicators for School Health Programs: Asthma Management (LEA) | 10 | 1 | 7
State and Territorial Education Agency and Tribal Government Officials | Indicators for School Health Programs: HIV Prevention (SEA) | 57 | 1 | 7
| Indicators for School Health Programs: Coordinated School Health Programs | 23 | 1 | 10

Daniel Holcomb,
Acting Reports Clearance Officer, Centers for Disease Control and Prevention.

[FR Doc. 2011-8273 Filed 4-6-11; 8:45 am]

BILLING CODE 4163-18-P